DEPARTMENT OF THE INTERIOR

Fish and Wildlife Service

[Docket No. FWS-R6-ES-2021-0056; FF06E21000 212 FXES11140600000]

Endangered and Threatened Wildlife and Plants; Enhancement of Survival Permit Application; Programmatic Safe Harbor Agreement and Candidate Conservation Agreement With Assurances for 14 Aquatic Species and Associated Categorical Exclusion; State of Kansas

AGENCY: Fish and Wildlife Service, Interior.

ACTION: Notice of availability; request for comments.

SUMMARY: We, the U.S. Fish and Wildlife Service (Service), are announcing the availability of documents related to an application for an enhancement of survival permit (permit) under the Endangered Species Act. The Kansas Department of Wildlife and Parks has applied for a permit associated with the implementation of a programmatic safe harbor agreement (SHA) and candidate conservation agreement with assurances (CCAA) for 14 aquatic species in Kansas. The documents available for review and comment are the applicant's programmatic SHA/CCAA, which is part of the permit application, and our draft environmental action statement and low-effect screening form, which support a categorical exclusion under the National Environmental Policy Act. We invite comments from the public and Federal, Tribal, State, and local governments.

DATES: We will accept comments received or postmarked on or before October 15, 2021. Comments submitted online at Regulations.gov (see ADDRESSES) must be received by 11:59 p.m. Eastern Time on October 15, 2021.

ADDRESSES: Obtaining Documents: The documents this notice announces, as well as any comments and other materials that we receive, will be available for public inspection online in Docket No. FWS-R6-ES-2021-0056 at http://www.regulations.gov.

Submitting Comments: To submit written comments, please use one of the following methods, and note that your information requests or comments are in reference to the Kansas Aquatic SHA/CCAA.

• Online: http://www.regulations.gov. Follow the instructions for submitting comments to Docket Number FWS-R6-ES-2021-0056.

• U.S. Mail: Public Comments Processing, Attn: Docket No. FWS-R6-ES-2021-0056; U.S. Fish and Wildlife Service Headquarters, MS: PRB/3W; 5275 Leesburg Pike; Falls Church, VA 22041-3803.

We request that you send comments by only one of the methods described above.

FOR FURTHER INFORMATION CONTACT: Gibran Suleiman, by phone at 785-539-3474, extension 114, by email at gibran_suleiman@fws.gov, or via the Federal Relay Service at 800-877-8339.

SUPPLEMENTARY INFORMATION: We, the U.S. Fish and Wildlife Service (Service), have received an application from Kansas Department of Wildlife and Parks (KDWP, applicant). The applicant has applied for a 50-year enhancement of survival permit (permit) under the Endangered Species Act of 1973, as amended (ESA; 16 U.S.C. 1531 et seq.). The application addresses the potential take of five aquatic species associated with the implementation of a programmatic safe harbor agreement (SHA) and nine aquatic species associated with the implementation of a programmatic candidate conservation agreement with assurances (CCAA) on non-Federal lands in the State of Kansas. The documents available for review and comment are the applicant's programmatic SHA/CCAA, which is part of the permit application, and our draft environmental action statement and low-effect screening form, which support a categorical exclusion under the National Environmental Policy Act. We invite comments on all of the documents from the public and Federal, Tribal, State, and local governments.

Safe Harbor Agreements and Candidate Conservation Agreements With Assurances

A SHA is an agreement between the Service, partners, and landowners, for voluntary management of non-Federal lands to contribute towards recovery of an ESA-listed species in a manner that is consistent with the Service's policy on SHAs (64 FR 32717, June 17, 1999) and applicable regulations. A CCAA is an agreement between the Service, partners, and landowners for voluntary management of non-Federal lands to remove or reduce key threats to species that may become listed under the ESA, in a manner that is consistent with the Service's policy on CCAAs (81 FR 95164, December 27, 2016) and applicable regulations. In return for implementing conservation measures in a SHA/CCAA, the Service gives participants assurances that the Service will not impose land, water, or resource use restrictions or conservation requirements on ESA-listed species, or those that may become listed, beyond those agreed to in the SHA/CCAA.

Applicant's Programmatic Safe Harbor Agreement/Candidate Conservation Agreement With Assurances

The KDWP has submitted this programmatic SHA/CCAA to facilitate the reintroduction and implementation of conservation measures for the covered species on non-Federal lands in Kansas. The documents available for review and comment are the applicant's programmatic SHA/CCAA, which is part of the permit application, and our draft environmental action statement and low-effect screening form, which support a categorical exclusion under the National Environmental Policy Act.

To enroll in the programmatic SHA/CCAA, a non-Federal landowner would enter into a landowner agreement with KDWP to enroll all or a portion of their property under the SHA and/or CCAA. Upon signature by both parties, KDWP would issue a certificate of inclusion to the non-Federal landowner, extending assurances and take authorization to the participating landowner for the appropriate covered species. The requested permit duration is for 50 years from permit issuance. Proposed conservation measures include the introduction, reintroduction, augmentation, or translocation of the covered species, and protection or enhancement of aquatic, wetland, riparian, or adjacent upland habitats for the covered species. Conservation measures would be site-specific and developed by the participating landowner and KDWP. Incidental take of covered species may occur as a result of the implementation of conservation measures or ongoing land management activities on the enrolled lands.

Covered Species

The five ESA-listed species included as covered species in the SHA are the Federally threatened Neosho madtom (Noturus placidus), Arkansas River shiner (Notropis girardi), and rabbitsfoot (Quadrula cylindrica cylindrica) and the Federally endangered Topeka shiner (Notropis topeka) and Neosho mucket (Lampsilis rafinesqueana). The covered species included in the CCAA are the alligator snapping turtle (Macrochelys temminckii), peppered chub (Macrhybopsis tetranema), plains minnow (Hybognathus placitus), silver chub (Macrhybopsis storeriana), hornyhead chub (Nocomis biguttatus), butterfly mussel (Ellipsaria lineolata), fluted shell (Lasmigona costata), cylindrical papershell (Anodontoides ferussacianus), and flat floater (Anodonta suborbiculata).

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the ESA (16 U.S.C. 1531 et seq.) and its implementing regulations (50 CFR 17.22 and 17.32) and NEPA (42 U.S.C. 4321 et seq.) and its implementing regulations (40 CFR 1506.6 and 43 CFR 46).

Stephen Small,
Assistant Regional Director, Ecological Services, Mountain-Prairie Region.

[FR Doc. 2021-19916 Filed 9-14-21; 8:45 am]

BILLING CODE 4333-15-P